DEPARTMENT OF ENERGY

Federal Energy Regulatory Commission

[Project No. 14568-000]

CB Energy Park, LLC; Notice of Preliminary Permit Application Accepted for Filing and Soliciting Comments, Motions to Intervene, and Competing Applications

On December 2, 2013, CB Energy Park, LLC filed an application for a preliminary permit, pursuant to section 4(f) of the Federal Power Act (FPA), proposing to study the feasibility of the Coffin Butte Pumped Storage Hydro Project (Coffin Butte Project) to be located near Two Dot in Wheatland County, Montana. The sole purpose of a preliminary permit, if issued, is to grant the permit holder priority to file a license application during the permit term. A preliminary permit does not authorize the permit holder to perform any land-disturbing activities or otherwise enter upon lands or waters owned by others without the owners' express permission.

The proposed project would consist of the following:

Lower Reservoir

(1) A 5,000-foot-long, 50-foot-high earth and roller compacted concrete embankment; (2) a 50-acre lower reservoir with a storage capacity of 2,500-acre-foot at an elevation of 5,200 feet; (3) a temporary diversion with a pump and pipeline to bring initial fill water to the lower reservoir from Miller Creek; (4) a well to bring groundwater to the project to make up evaporation and seepage losses; (5) a powerhouse containing two reversible 125-megawatt (MW) turbine/generator units, for a total installed capacity of 250 MW; and (6) an approximately 2-mile-long, 230-kilovolt (kV) transmission line connecting to an existing 500-kV transmission line in the area or a 7-mile-long, 230-kV transmission line connecting to the existing Two Dot substation.

Upper Reservoir

(1) A 4,600-foot-long, 50-foot-high earth and roller compacted concrete embankment; (2) a 50-acre upper reservoir with a storage capacity of 2,500-acre-foot at an elevation of 6,240 feet; (3) a 18-foot-diameter, 5,000-foot-long steel-lined tunnel extending to the powerhouse; and (4) appurtenant facilities.

The estimated annual generation of the Coffin Butte Project would be 880,000 megawatt-hours.

Applicant Contact: Carl Borgquist, CB Energy Park, LLC, P.O. Box 309, Bozeman, MT 59771; phone: (406) 585-3006; or Martin J. Weber, P.E., Stanley Consultants, Inc., 5775 Wayzata Blvd., No. 300, Minneapolis, MN 55416; phone: (952) 546-3669.

FERC Contact: Dianne Rodman, (202) 502-6077.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14568-000) in the docket number field to access the document. For assistance, contact FERC Online Support.

Dated: February 3, 2014.
Kimberly D. Bose,
Secretary.

[FR Doc. 2014-02743 Filed 2-7-14; 8:45 am]

BILLING CODE 6717-01-P